DEPARTMENT OF ENERGY

Federal Energy Regulatory Commission

[Project No. P-2088-068]

South Feather Water and Power Agency; Notice of Intent To Prepare an Environmental Impact Statement and Notice of Scoping Meetings and Site Visit and Soliciting Scoping Comments

May 17, 2007.

Take notice that the following hydroelectric application has been filed with Commission and is available for public inspection:

a. Type of Application: New Major License.

b. Project No.: P-2088-068.

c. Date Filed: March 26, 2007.

d. Applicant: South Feather Water and Power Agency.

e. Name of Project: South Feather Power Project.

f. Location: On the South Fork Feather River (SFFR), Lost Creek and Slate Creek in Butte, Yuba and Plumas counties, California. The project affects 1,977.12 acres of federal lands administered by the Plumas National Forest and 10.57 acres of federal land administered by the U.S. Bureau of Land Management.

g. Filed Pursuant to: Federal Power Act 16 U.S.C. 791(a)-825(r).

h. Applicant Contact: Michael Glaze, General Manager, South Feather Water and Power Agency, 2310 Oro-Quincy Highway, Oroville, CA, 95966, (530) 533-4578.

i. FERC Contact: John Mudre, (202) 502-8902, or john.mudre@ferc.gov.

j. Deadline for filing scoping comments: July 16, 2007.

All documents (original and eight copies) should be filed with: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The South Feather Power Project is a water supply/power project constructed in the late 1950s/early 1960s. The Project is composed of four developments: Sly Creek, Woodleaf, Forbestown and Kelly Ridge, each of which is described below. The Project can store about 172,000 acre-feet (af) of water (gross storage) and has generated an average of about 514.1 gigawatt hours (gWh) of power annually for the past 20 years, since the addition of Sly Creek Powerhouse.

The Sly Creek Development includes: (1) Little Grass Valley Dam—a 210-foot-high, 840-foot-long, rock filled dam on the SFFR with a crest elevation of 5,052 feet (all elevations are in National Geodetic Vertical Datum, or NGVD, unless otherwise specified) and with a 180-foot-long spillway controlled by two 14-feet-high by 40-feet-long steel radial gates that forms a 89,804 acre-foot (af) storage reservoir covering 1,650 acres at a maximum water surface (flood level) elevation of 5,047 feet with the spill gates closed; (2) South Fork Diversion Dam—a 60-foot-high, 167-foot-long, concrete overflow arch dam on the SFFR with a crest elevation of 3,557 to 3,559 feet and with four uncontrolled overflow spillway sections that forms an 87 af diversion impoundment covering about 9 acres at a normal maximum water surface elevation of 3,557 feet; (3) South Fork Diversion Tunnel—a 14,256-foot-long, 11-foot-diameter concrete lined and unlined horseshoe un-pressurized tunnel controlled by two 6-foot-high by 4-foot-long electric hoist slide gates that diverts up to 600 cubic feet per second (cfs) of water from the South Fork Diversion Dam to Sly Creek Reservoir; (4) Slate Creek Diversion Dam—a 62-foot-high, 223.5-foot-long, concrete overflow arch dam on Slate Creek with a crest elevation of 3,552 to 3,554 feet and with three uncontrolled overflow spillway sections that forms a negligible diversion impoundment due to sediment accumulation; (5) Slate Creek Diversion Tunnel—a 13,200-foot-long, 11-foot-diameter, concrete lined and unlined horseshoe un-pressurized tunnel controlled by two 8-foot-high by 6-foot-long manual slide gates that diverts up to a maximum flow capacity of 848 cfs of water (though water rights limit flows to 600 cfs and at times flows are limited to 500 cfs due to high storage volume in the receiving reservoir) from the Slate Creek Diversion Dam to Sly Creek Reservoir; (6) Sly Creek Dam—a 289-foot-high, 1,200-foot-long, zoned earth-filled dam on Lost Creek with a crest elevation of 3,536 feet and with a 649-foot-long spillway controlled by one 16-foot-high by 54-foot-long steel radial gate that forms a 64,338 af storage reservoir covering 619 acres at a maximum water surface (flood level) elevation of 3,531 feet with the spill gates closed; (7) Sly Creek Penstock—a 1,100-foot-long, 90-inch-inside-diameter, steel penstock enclosed in the former outlet tunnel that delivers water to Sly Creek Powerhouse; (8) Sly Creek Powerhouse—a semi-outdoor, reinforced concrete, above ground powerhouse that releases water to Lost Creek Reservoir and that contains one reaction turbine rated at 17,690 horsepower (hp) directly connected to a 13,500-kilovolt-amperes (kVA) generator; (9) Sly Creek Powerhouse Switchyard—a switchyard adjacent to the Sly Creek Powerhouse that contains one 16,000 kVA transformer. Power generated at Sly Creek Powerhouse is delivered from the switchyard to the grid via Pacific Gas and Electric Company's 115 kilovolt (kV) Sly Creek Tap and Woodleaf-Kanaka Junction transmission line; (10) Little Grass Valley Reservoir Recreation Facility—the Little Grass Valley Reservoir Recreation Facility includes Little Beaver, Red Feather, Running Deer, Horse Camp, Wyandotte, Peninsula Tent, Black Rock Tent, Black Rock RV, and Tooms RV campgrounds; Black Rock, Tooms and Maidu Boat Launch areas; Pancake Beach and Blue Water Beach day use areas, Maidu Amphitheater and Little Grass Valley Dam ADA Accessible Fishing trail at Little Grass Valley Reservoir; and (11) Sly Creek Reservoir Recreation Facility—the Sly Creek Recreation Facility includes two campgrounds (Strawberry and Sly Creek), Strawberry Car-Top Boat Launch, Mooreville Boat Ramp and Mooreville Day Use Area on Sly Creek Reservoir. The Sly Creek Development does not include any roads except for the portions of the roads within the FERC Project Boundary that cross Little Grass Valley Dam (USFS Road 22N94) and Sly Creek Dam (USFS Road 21N16).

The Woodleaf Development includes: (1) Lost Creek Dam—a 122-foot-high, 486-foot-long, concrete overflow arch dam on the Lost Creek with a crest elevation of 3,279.05 feet and with a 251-foot-wide spillway controlled by 4-foot-high by 8-foot-long flashboards that forms a 5,361 af storage reservoir covering 137 acres at a normal maximum water surface elevation of 3,283 feet with the flashboards installed; (2) Woodleaf Power Tunnel—an 18,385-foot-long, 12-foot-diameter, concrete lined and unlined horseshoe pressurized tunnel controlled by one 6-foot-high by 12-foot-long electric hoist slide gate that diverts up to 620 cfs of water from Lost Creek Reservoir to the Woodleaf Penstock; (3) Woodleaf Penstock—a 3,519-foot-long, 97-inch reducing to 78-inch-inside-diameter, exposed steel penstock that delivers water to Woodleaf Powerhouse; (4) Woodleaf Powerhouse—a semi-outdoor, reinforced concrete, above ground powerhouse that releases water to the Forbestown Diversion Dam impoundment on the SFFR and that contains one 6-jet vertical shaft impulse Pelton turbine rated at 80,000 hp directly connected to a 65,500 kVA generator; and (5) Woodleaf Powerhouse Switchyard—a switchyard adjacent to the Woodleaf Powerhouse that contains one 70,000 kVA transformer. Power generated at Woodleaf Powerhouse is delivered from the switchyard to the grid via Pacific Gas and Electric Company's 115 kV Woodleaf-Kanaka Junction transmission line. The Woodleaf Development does not include any recreation facilities or roads.

The Forbestown Development includes: (1) Forbestown Diversion Dam—a 80-foot-high, 256-foot-long, concrete overflow arch dam on the SFFR with a crest elevation of 1,783 feet and with five 46-foot-wide uncontrolled overflow spillway sections with a combined width of approximately 240 feet that forms a 352 af diversion impoundment covering about 12 acres at a normal maximum water surface elevation of 1,783 feet; (2) Forbestown Power Tunnel—a 18,388-foot-long, 12.5-foot by 11-foot-diameter, concrete lined and unlined horseshoe pressurized tunnel that diverts up to 660 cfs of water from the Forbestown Diversion impoundment to the Forbestown Penstock; (3) Forbestown Penstock—a 1,487-foot-long, 97-inch reducing to 83-inch-inside-diameter exposed steel penstock that delivers water to Forbestown Powerhouse; (4) Forbestown Powerhouse—a semi-outdoor reinforced concrete above ground powerhouse that releases water to Ponderosa Reservoir on the SFFR and that contains one vertical reaction Francis turbine rated at 54,500 hp directly connected to a 40,500 kVA generator; and (5) Forbestown Powerhouse Switchyard—a switchyard adjacent to the Forbestown Powerhouse that contains one 35,200 kVA transformer. Power generated at Forbestown Powerhouse is delivered from the switchyard to the grid via Pacific Gas and Electric Company's 115 kV Woodleaf-Kanaka Junction transmission line. The Forbestown Development does not include any recreation facilities or roads.

The Kelly Ridge Development includes: (1) Ponderosa Dam—a 160-foot-high, 650-foot-long, earth-filled dam that releases water into the 3.6 million af Lake Oroville (part of the California Department of Water Resources' Feather River Project, FERC Project No. 2100) with a crest elevation of 985 feet and with a 352-foot-long spillway controlled by two 7 foot 7.5-inch-high by 51 feet-long steel gates that forms a 4,178 af storage reservoir covering 103 acres at a normal maximum water surface elevation of 960 feet; (2) Ponderosa Diversion Tunnel—a 516-foot-long, 10-foot by 9-foot-diameter concrete lined and unlined horseshoe unpressurized tunnel controlled by one 6-foot-high by 8-foot-long hydraulic gate that diverts up to 300 cfs of water from Ponderosa Reservoir to Miners Ranch Conduit; (3) Miners Ranch Conduit—a 32,254-foot-long, 10-foot-wide concrete or gunite-lined canal and concrete or bench flume that includes two siphon sections across the McCabe and Powell creek sections of Lake Oroville and that diverts water from the Ponderosa Diversion Tunnel to the Miners Ranch Tunnel; (4) Miners Ranch Tunnel—a 23,946-foot-long, 10-foot by 9-foot-diameter, concrete lined horseshoe un-pressurized tunnel that diverts up to 300 cfs of water from the Miners Ranch Conduit to Miners Ranch Reservoir; (5) Miners Ranch Dam—a 55-foot-high, 1,650-foot-long, earth-filled off-stream dam with a crest elevation of 895 feet and with an 1,175-foot-long uncontrolled spillway that forms a 896 af storage reservoir covering 48 acres at a normal maximum water surface elevation of 890 feet; (6) Kelly Ridge Power Tunnel—a 6,736-foot-long, 9-foot by 8-foot-diameter, pressurized tunnel controlled by one 4-foot-high by 8-foot-long fixed wheel gate that diverts up to 260 cfs of water from Miners Ranch Reservoir to Kelly Ridge Penstock: (7) Kelly Ridge Penstock—a 6,064-foot-long 69-inch reducing to 57-inch-inside-diameter, exposed steel penstock that delivers water to Kelly Ridge Powerhouse; (8) Kelly Ridge Powerhouse—a semi-outdoor reinforced concrete above ground powerhouse that releases water to CDWR Feather River Project's Thermalito Diversion Pool downstream of Oroville Dam and that contains one vertical reaction Francis turbine rated at 13,000 hp directly connected to a 11,000 kVA generator; and (9) Kelly Ridge Powerhouse Switchyard—a switchyard adjacent to the Kelly Ridge Powerhouse that contains one 11,000 kVA transformer. Power generated at the Kelly Ridge Powerhouse is delivered from the switchyard to the grid via Pacific Gas and Electric Company's 60 kV Kelly Ridge-Elgin Junction transmission line. The Kelly Ridge Development does not include any recreation facilities or roads.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process.

The Commission intends to prepare an Environmental Impact Statement (EIS) on the project in accordance with the National Environmental Policy Act. The EIS will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EIS. The times and locations of these meetings are as follows:

Agency Scoping Meeting

Date: June 14, 2007.

Time: 10 a.m.

Place: VFW Post #1747.

Address: 1901 Elgin St., Oroville, CA.

Public Scoping Meeting

Date: June 13, 2007.

Time: 7 p.m.

Place: VFW Post #1747.

Address: 1901 Elgin St., Oroville, CA.

Copies of the Scoping Document (SD1) outlining the subject areas to be addressed in the EIS are being distributed to the parties on the Commission's mailing list under separate cover. Commission's mailing list. Copies of the SD1 will be available at the scoping meeting or may be viewed on the Web at http://www.ferc.gov using the “eLibrary” link (see item m above).

Site Visit

We also will conduct a two-day site visit to the project facilities on Tuesday, June 12, 2007, and Wednesday June 13, 2007. On both days we will meet at the South Feather Water and Power Agency's Forbestown Office, 5494 Forbestown Rd., Forbestown, CA at 7:30 a.m. All participants are responsible for their own transportation on the site visits and will need to provide their own lunch.

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EIS.

Kimberly D. Bose,
Secretary.

[FR Doc. E7-10000 Filed 5-23-07; 8:45 am]

BILLING CODE 6717-01-P